DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Evaluation of the Coastal Services Magazine and the Coastal Connections Newsletter.

Form Number(s): None.

OMB Approval Number: None.

Type of Request: Regular submission.

Burden Hours: 59.

Number of Respondents: 292.

Average Hours Per Response: 12 minutes.

Needs and Uses: The NOAA Coastal Services Center (Center) produces two publications for coastal resource managers, the bi-monthly Coastal Services Magazine and the bi-monthly Coastal Connections Newsletter. The proposed survey will be used by the Center to obtain information from our subscribers to evaluate customer satisfaction, learning and application regarding the two publications.

Affected Public: State, local or tribal government; Federal government.

Frequency: One time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 22, 2005.
Gwellnar Banks,
Management Analyst, Office of the Chief Information Officer.

[FR Doc. 05-14907 Filed 7-27-05; 8:45 am]

BILLING CODE 3510-JS-P